DEPARTMENT OF DEFENSE

Office of the Secretary

Reserve Forces Policy Board; Notice of Federal Advisory Committee Meeting

AGENCY: Office of the Secretary of Defense, Reserve Forces Policy Board, DoD.

ACTION: Notice of Federal Advisory Committee meeting.

SUMMARY: The Department of Defense is publishing this notice to announce that the following Federal Advisory Committee meeting of the Reserve Forces Policy Board (RFPB) will take place.

DATES: Tuesday, December 9, 2014 from 8:55 a.m. to 3:30 p.m.

ADDRESSES: The address is the Pentagon, Room 3E863, Arlington, VA.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://rfpb.defense.gov/. The most up-to-date changes to the meeting can be found on the RFPB's Web site.

SUPPLEMENTARY INFORMATION: This meeting notice is being published under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 8:55 a.m. until 3:30 p.m. The portion of the meeting from 8:55 a.m. to 9:45 p.m. will be open to the public and will consist of remarks to the RFPB from the three RFPB subcommittee chairs who will provide updates on the work of their respective subcommittee. The Enhancing DoD's Role in the Homeland Subcommittee plans to provide updates on the Department of Defense support of civil authorities and FEMA requirements. The Supporting & Sustaining Reserve Component Personnel Subcommittee plans to provide updates on the Survivor Benefits Program, Post 9/11 GI Bill Change Proposal, and Duty Status recommendations to the Secretary of Defense. The Ensuring a Ready, Capable, Available and Sustainable Operational Reserve Subcommittee plans to provide updates on the examination of Reserve Components ancillary training issues and medical readiness. Additionally, a readout from Reserve Junior Officer Panels will discuss the findings concerning the perspectives as revealed by a Reserve Junior Officer Panel on personnel benefits, training and readiness issues. The portion of the meeting from 9:55 a.m. to 3:30 p.m. will be closed to the public and will consist of remarks to the RFPB from invited speakers that include the Secretary of Defense; Commander, U.S. Southern Command; Chief Executive Officer, RAND Corporation; and Chairman of the RFPB. The Secretary of Defense will address future strategies for use of the Reserve Components. The Commander, U.S. Southern Command will discuss the readiness, availability and use of the National Guard and Reserve within Southern Command. The Chief Executive Officer, RAND Corporation will brief the findings and recommendations on the Active Component/Reserve Component cost, force mix, and use to address national security challenges in a constrained fiscal environment as discussed in his recent reports. The Chairman of the RFPB will discuss his analysis and opinion on the FY 2015 Budget and the impact that it will have on the readiness, availability, and future use of the National Guard and Reserve.

Meeting Accessibility: Pursuant to 5 U.S.C. 552b, as amended, and 41 CFR 102-3.140 through 102-3.165, and subject to the availability of space, the meeting is open to the public from 8:55 a.m. to 9:45 a.m. Seating is based on a first-come, first-served basis. All members of the public who wish to attend the public meeting must contact Mr. Alex Sabol, the Designated Federal Officer, not later than 12:00 p.m. on Wednesday, December 3, 2014, as listed in the FOR FURTHER INFORMATION CONTACT section. An escort may be required for attendees without appropriate DoD badges. In accordance with section 10(d) of the FACA, 5 U.S.C. 552b, and 41 CFR 102-3.155, the Department of Defense has determined that the portion of this meeting scheduled to occur from 9:55 a.m. to 3:30 p.m. will be closed to the public. Specifically, the Under Secretary of Defense (Personnel and Readiness), in coordination with the DoD FACA Attorney, has determined in writing that this portion of the meeting will be closed to the public because it is likely to disclose classified matters covered by 5 U.S.C. 552b(c)(1).

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: November 19, 2014.
Aaron Siegel,
Alternate OSD Federal Register Liaison Officer, Department of Defense.

[FR Doc. 2014-27736 Filed 11-21-14; 8:45 am]

BILLING CODE 5001-06-P